OFFICE OF SCIENCE AND TECHNOLOGY POLICY

Nanoscale Science, Engineering, and Technology Subcommittee of the Committee on Technology, National Science and Technology Council Workshop

ACTION: Notice of public meeting.

SUMMARY: The National Nanotechnology Coordination Office (NNCO), on behalf of the Nanoscale Science, Engineering, and Technology (NSET) Subcommittee of the Committee on Technology, National Science and Technology Council (NSTC), will hold the “2012 Regional, State, and Local (RSL) Initiatives in Nanotechnology Workshop” on May 1-2, 2012. This workshop will bring together leaders of regional, state, and local organizations to engage in dialog with the Federal government; economic development groups; investors and entrepreneurs; technology leaders; and scientists and engineers from industry, business, government, and academia. The discussion will address a wide range of resource, organizational, and policy issues impacting RSL nanotechnology initiatives.

The workshop, cosponsored by the Federal agencies participating in the National Nanotechnology Initiative (NNI) and the Oregon Nanoscience and Microtechnologies Institute (ONAMI), will examine the current landscape of U.S. RSL nanotechnology initiatives and their status; RSL best practices, business models, resources, and opportunities for partnering; and the role of nanotechnology RSLs in future U.S. economic growth and job creation.

Dates and Addresses: The workshop will be held at the Embassy Suites Portland-Downtown Hotel, 319 SW Pine Street, Portland, OR, 97204 on Tuesday, May 1, 2012 from 8:30 a.m. until 6 p.m. and on Wednesday, May 2, 2012 from 8:30 a.m. until 6 p.m. For directions, please visit www.nano.gov/RSL12.

Registration: Due to space limitations, pre-registration for the workshop is required. Individuals planning to attend the workshop should register online at http://www.nano.gov/rslregistration. Written notices of participation by email should be sent to RSL12@nnco.nano.gov or mailed to RSL 2012 Workshop, c/o NNCO, 4201 Wilson Boulevard, Stafford II, Suite 405, Arlington, VA 22230. Registration is on a first-come, first-served basis until capacity is reached; otherwise registration will close on April 27, 2012 at 5 p.m. EST. Those interested in presenting 3-5 minutes of public comments at the meeting should also register at http://www.nano.gov/rslregistration. Written or electronic comments should be submitted by email to RSL12@nnco.nano.gov until April 27, 2012. The workshop will include an opportunity for any regional, state, or local nanotechnology initiative or related organization to present a poster explaining the activity.

Meeting Accomodations: Individuals requiring special accommodation to access this public meeting should contact Halyna Paikoush by email (RSL12@nnco.nano.gov) or by telephone (410-467-9832) at least ten business days prior to the meeting so that appropriate arrangements can be made.

FOR FURTHER INFORMATION CONTACT: For information regarding this Notice, please contact James Kadtke or Halyna Paikoush at the National Nanotechnology Coordination Office by telephone (703-292-8626) or email (RSL12@nnco.nano.gov). Additional information about the meeting, including the agenda, is posted at www.nano.gov/RSL12.

Ted Wackler,
Deputy Chief of Staff.

[FR Doc. 2012-5223 Filed 3-2-12; 8:45 am]

BILLING CODE P